NUCLEAR REGULATORY COMMISSION

[NRC-2009-0157]

Notice of Availability of Draft Environmental Impact Statement and Public Meetings for the General Electric-Hitachi Global Laser Enrichment, LLC Proposed Laser-Based Uranium Enrichment Facility

AGENCY: Nuclear Regulatory Commission.

ACTION: Notice of Availability of Draft Environmental Impact Statement.

SUMMARY: Notice is hereby given that the U.S. Nuclear Regulatory Commission (NRC) is issuing for public comment a Draft Environmental Impact Statement (DEIS) for the proposed General Electric-Hitachi (GEH) Global Laser Enrichment (GLE) Uranium Enrichment Facility. On June 26, 2009, GEH submitted a license application that proposes the construction, operation, and decommissioning of a laser-based uranium enrichment facility located near Wilmington, North Carolina. GEH proposes to locate the facility on the existing General Electric Company (GE) site near Wilmington, North Carolina (Wilmington Site).

GEH submitted an Environmental Report (ER) in support of the proposed facility on January 30, 2009. On May 8, 2009, the NRC granted an exemption to authorize GEH to conduct certain preconstruction activities on the Wilmington Site. GEH submitted Supplement 1 to its ER on July 22, 2009, GLE Environmental Report Supplement 1—Early Construction. Supplement 1 distinguishes between the environmental impacts of preconstruction activities covered by the May 8, 2009, exemption and NRC-licensed construction activities, which cannot be undertaken unless a license is granted. On November 13, 2009, GLE submitted Supplement 2 to its ER, GLE Environmental Report Supplement 2—Revised Roadway and Entrance. Supplement 2 provides information describing the environmental impacts associated with developing an entrance and roadway into the Wilmington Site that are different from those proposed in the original ER.

This DEIS is being issued as part of the NRC's process to decide whether to issue a license to GEH, pursuant to Title 10 of the U.S. Code of Federal Regulations Parts 30, 40, and 70, to build and operate the proposed uranium enrichment facility. Specifically, GEH proposes to use laser-based technology to enrich the uranium-235 isotope found in natural uranium to concentrations up to 8 percent by weight. The enriched uranium would be used to manufacture nuclear fuel for commercial nuclear power reactors.

The NRC staff will hold two public meetings on July 22, 2010 to present an overview of the licensing process and the contents of the DEIS, and to accept oral and written public comments on the DEIS. The meetings will take place in Ballroom 5 of the Warwick Center at the University of North Carolina Wilmington. Prior to each public meeting, the NRC staff will be available to informally discuss the proposed GLE project and answer questions in an “open house” format. This “open house” format provides for one-on-one discussions with the NRC staff involved with the preparation of the DEIS. The DEIS meetings officially begin at 2:30 p.m. and 7:30 p.m. The meetings will include the following agenda items: (1) A brief presentation summarizing the NRC licensing review, (2) a presentation summarizing the contents of the DEIS, and (3) an opportunity for interested government agencies, organizations, and individuals to provide comments on the DEIS. Both public meetings will be transcribed by a court reporter.

Persons wishing to provide oral comments will be asked to register at the meeting entrance. Individual oral comments may have to be limited by the time available, depending upon the number of persons who register. If special equipment or accommodations are needed to attend or present information at the public meetings, the need should be brought to the attention of Ms. Jennifer Davis no later than July 8, 2010, to provide NRC staff with adequate notice to determine whether the request can be accommodated. Please note that comments do not have to be provided at the public meetings and may be submitted at any time during the comment period, as described in the DATES section of this notice. Any interested party may submit comments on the DEIS for consideration by NRC staff. Comments may be submitted by any of the methods described in the ADDRESSES section of this notice.

DATES: The public comment period on the DEIS begins on the date of publication of the U. S. Environmental Protection Agency's Federal Register Notice of Filing and ends on August 9, 2010. To ensure consideration, comments on the DEIS and the proposed action must be received or postmarked by August 9, 2010. The NRC staff will consider comments received or postmarked after that date to the extent practical.

The NRC will conduct two public meetings in Wilmington, North Carolina. The meeting date, times, and location are listed below:

Meeting Date: July 22, 2010.

Meeting Location: Warwick Center, Ballroom 5, 601 S. College Rd., University of North Carolina Wilmington, North Carolina, 28403.

Informal Open House Sessions: 1:30-2:30 p.m. and 6:30-7:30 p.m.

DEIS Comment Meetings: 2:30-5 p.m. and 7:30-10 p.m.

ADDRESSES: You may submit comments by any one of the following methods. Please include Docket ID NRC-2009-0157 in the subject line of your comments.

Electronic mail: Comments may be mailed to GLE.EIS@nrc.gov.

Federal Rulemaking Web site: Comments can be submitted electronically at http://www.regulations.gov. Search for documents filed under Docket ID NRC-2009-0157. Address questions about NRC dockets to Carol Gallagher 301-492-3668; e-mail Carol.Gallagher@nrc.gov.

Mail: Comments may be submitted by sending mail to Cindy Bladey, Chief, Rules, Announcements, and Directives Branch (RADB), Division of Administrative Services, Office of Administration, Mail Stop: TWB-05-B01M, U.S. Nuclear Regulatory Commission, Washington, DC 20555-0001, or by fax to RADB at (301) 492-3446.

Comments submitted in writing or in electronic form will be posted on the NRC Web site and on the Federal Rulemaking Web site http://www.regulations.gov. Because comments will not be edited to remove any identifying or contact information, the NRC cautions you against including any information in your submission that you do not want to be publicly disclosed. The NRC requests that any party soliciting or aggregating comments received from other persons for submission to the NRC inform those persons that the NRC will not edit their comments to remove any identifying or contact information, and therefore, they should not include any information in their comments that they do not want publicly disclosed.

Document Availability: Publicly available documents related to this notice can be accessed using any the methods described in this section. One appendix of the DEIS contains Sensitive Unclassified Non-Safeguards Information (SUNSI) and has been withheld from public inspection in accordance with 10 CFR 2.390, Availability of Public Records. This appendix contains proprietary business information as well as security-related information. The NRC staff has considered the information in this appendix in forming the conclusions presented in the publicly-available version of the document. Procedures for obtaining access to SUNSI were published in the NRC's Notice of Hearing and Commission Order (75 FR 1819).

NRC's Public Document Room (PDR): Publicly-available portions of GEH's application, safety analysis report, environmental report, supplements to its environmental report, and NRC's DEIS are available to the public at the Commission's Public Document Room (PDR), located at One White Flint North, 11555 Rockville Pike (first floor), Rockville, Maryland, 20852. Members of the public can contact the NRC's PDR reference staff by calling 1-800-397-4209, by faxing a request to 301-415-3548, or by e-mail to pdr.resource@nrc.gov. Hard copies of the documents are available from the PDR for a fee.

GLE Web site: Documents related to this notice also are available on the NRC's GE Laser Enrichment Facility Licensing Web site at http://www.nrc.gov/materials/fuel-cycle-fac/laser.html#2a.

NRC's Agencywide Documents Access and Management System (ADAMS): Members of the public can access the NRC's Agencywide Documents Access and Management System (ADAMS) at http://www.nrc.gov/reading-rm/adams.html. From this Web site, enter the accession numbers included here for GEH's license application (ML091871003), the exemption authorizing certain preconstruction activities (ML083510647), GEH's Environmental Report (ML090910573), Supplement 1 to the Environmental Report (ML092100577), Supplement 2 to the Environmental Report (ML093240135), and NRC's DEIS (ML101680345).

Federal Rulemaking Web site: Public comments and supporting materials related to this notice can be found at http://www.regulations.gov by searching on Docket ID: NRC-2009-0157.

The DEIS for the proposed GLE Facility may be accessed on the internet at http://www.nrc.gov/reading-rm/doc-collections/nuregs/staff/sr1938. Copies of the DEIS also will be available at the New Hanover County Library, 201 Chestnut Street, Wilmington, North Carolina, 28401.

FOR FURTHER INFORMATION CONTACT: For general or technical information associated with the licensing review of the GLE application, please contact Tim Johnson at (301) 492-3121 or Timothy.Johnson@nrc.gov. For information about the DEIS or environmental review process, please contact Jennifer A. Davis at (301) 415-3835 or Jennifer.Davis@nrc.gov.

SUPPLEMENTARY INFORMATION: This DEIS was prepared in response to an application submitted by GEH dated June 26, 2009. The application proposes the construction, operation, and decommissioning of the proposed GLE Facility, to be located near Wilmington, North Carolina. The DEIS was prepared by the NRC and its contractor, Argonne National Laboratory, in compliance with the National Environmental Policy Act of 1969, as amended, (NEPA) and the NRC's regulations for implementing NEPA (10 CFR Part 51).

The DEIS is being issued as part of the NRC's process to decide whether to issue a license to GEH, pursuant to Title 10 of the U.S. Code of Federal Regulations Parts 30, 40, and 70. The scope of activities conducted under the license would include the construction, operation, and decommissioning of the proposed GLE Facility. Specifically, GLE proposes to use laser-based technology to enrich the uranium-235 isotope found in natural uranium to concentrations up to 8 percent by weight. The enriched uranium would be used to manufacture nuclear fuel for commercial nuclear power reactors. GEH proposes to locate the facility on the existing GE site near Wilmington, North Carolina.

The NRC staff published a Notice of Intent to prepare an EIS for the proposed GLE Facility and to conduct a scoping process in the Federal Register on April 9, 2009 (74 FR 16237). The NRC staff accepted comments through June 8, 2009, and subsequently extended the scoping comment period (74 FR 36781) to August 31, 2009, to accommodate public inspection of GEH's license application, submitted June 26, 2009. The NRC staff issued a Scoping Summary Report in November 2009 (ADAMS Accession Number: ML093280734).

The NRC staff assessed the impacts of the proposed action and its alternatives on public and occupational health, air quality, water resources, waste management, geology and soils, noise, ecology resources, land use, transportation, historic and cultural resources, visual and scenic resources, socioeconomics, accidents, and environmental justice. Additionally, the DEIS analyzes and compares the costs and benefits of the proposed action.

Based on the preliminary evaluation in the DEIS, the NRC environmental review staff has concluded that the proposed action and associated preconstruction activities would have small effects on the physical environment and human communities with the exception of: (1) Short-term moderate impacts associated with increases in particulate matter released to the air during road construction, land clearing, and building construction, (2) small to moderate impacts related to increased traffic congestion near the site entrance during preconstruction and construction activities, (3) small to moderate impacts on historic and cultural resources associated with potential facility expansion, (4) small to moderate impacts on vegetation and wildlife associated with preconstruction activities, and (5) moderate but temporary noise impacts during road construction.

In addition to the action proposed by GEH, the NRC staff addressed two alternatives in the DEIS: A no-action alternative and use of gas centrifuge uranium enrichment technology. Under the no-action alternative, NRC would deny GEH's application for a license to construct and operate a laser-based uranium enrichment facility. The no-action alternative serves as a baseline for comparison of the potential environmental impacts of granting the license. Under the gas centrifuge alternative, GEH would implement gas centrifuge technology to enrich uranium at the Wilmington Site instead of using the proposed laser-based technology. Because specific design information for a gas centrifuge facility at the Wilmington Site does not exist, the gas centrifuge alternative was evaluated qualitatively and in less detail than the proposed alternative and the no-action alternative. Other alternatives (e.g., alternate locations, alternate technologies) also were considered but, for reasons discussed in the DEIS, were eliminated from detailed analysis.

After weighing the impacts, costs, and benefits of the proposed action and comparing alternatives, the NRC staff, in accordance with 10 CFR 51.71(e), set forth its preliminary recommendation regarding the proposed action. The NRC staff preliminarily recommends that, unless safety issues mandate otherwise, the proposed action should be approved (i.e., NRC should issue a license).

The DEIS is a preliminary analysis of the environmental impacts of the proposed action and its alternatives. The Final EIS and any decision documentation regarding the proposed action will not be issued until public comments on the DEIS have been received and evaluated. Comments received on the DEIS will be addressed in the Final EIS. Notice of the availability of the Final EIS will be published in the Federal Register. The Final EIS is scheduled to be completed in February 2011.

The NRC staff in the Office of Nuclear Material Safety and Safeguards, Division of Fuel Cycle Safety and Safeguards is currently completing the safety review of GEH's license application. The safety review is currently scheduled for completion in December 2010.

Dated at Rockville, Maryland, this 17th day of June, 2010.
For the U.S. Nuclear Regulatory Commission.
Larry W. Camper,
Director, Division of Waste Management and Environmental Protection, Office of Federal and State Materials and Environmental Management Programs.

[FR Doc. 2010-15445 Filed 6-24-10; 8:45 am]

BILLING CODE 7590-01-P